DEPARTMENT OF LABOR

Employment and Training Administration

[TA-W-63,719]

3M Precision Optics, Inc.; Including On-Site Leased Workers From Volt, Cincinnati, OH; Notice of Revised Determination on Reconsideration

On October 10, 2008, the Department issued an Affirmative Determination Regarding Application on Reconsideration applicable to workers and former workers of the subject firm. The notice was published in the Federal Register on October 22, 2008 (73 FR 63021).

The previous investigation initiated on July 21, 2008, resulted in a negative determination issued on September 3, 2008, was based on the finding that imports of optical systems for projection televisions and projectors did not contribute importantly to worker separations at the subject firm and no shift in production to a foreign source occurred. The denial notice was published in the Federal Register on September 18, 2008 (73 FR 54174).

In the request for reconsideration, the petitioner provided additional information regarding a shift in production of optical systems for projection televisions and projectors from the subject firm to China and alleged that imports of projection televisions and projectors increased.

The Department contacted the company official to verify whether the subject firm imported optical systems for projection televisions and projectors following a shift to China.

The investigation on reconsideration revealed that the subject firm shifted production of optical systems for projection televisions and projectors and increased imports of optical systems for projection televisions and projectors during the relevant period. It was also revealed that employment and sales declined at 3M Precision Optics, Inc., Cincinnati, Ohio during the relevant period.

In accordance with Section 246 the Trade Act of 1974 (26 U.S.C. 2813), as amended, the Department of Labor herein presents the results of its investigation regarding certification of eligibility to apply for alternative trade adjustment assistance (ATAA) for older workers.

In order for the Department to issue a certification of eligibility to apply for ATAA, the group eligibility requirements of Section 246 of the Trade Act must be met. The Department has determined in this case that the requirements of Section 246 have been met.

A significant number of workers at the firm are age 50 or over and possess skills that are not easily transferable. Competitive conditions within the industry are adverse.

Conclusion

After careful review of the facts obtained in the investigation, I determine that there was a shift in production from the workers' firm or subdivision to China of articles that are like or directly competitive with those produced by the subject firm or subdivision, and there has been or is likely to be an increase in imports of like or directly competitive articles. In accordance with the provisions of the Act, I make the following certification:

All workers of 3M Precision Optics, Inc., including on-site leased workers from Volt, Cincinnati, Ohio, who became totally or partially separated from employment on or after July 18, 2007, through two years from the date of this certification, are eligible to apply for adjustment assistance under Section 223 of the Trade Act of 1974, and are eligible to apply for alternative trade adjustment assistance under Section 246 of the Trade Act of 1974.

Signed in Washington, DC this 26th day of November 2008.
Elliott S. Kushner,
Certifying Officer, Division of Trade Adjustment Assistance.

[FR Doc. E8-29171 Filed 12-9-08; 8:45 am]

BILLING CODE 4510-FN-P